DEPARTMENT OF ENERGY

Federal Energy Regulatory Commission

Combined Notice of Filings

Take notice that the Commission has received the following Natural Gas Pipeline Rate and Refund Report filings:

Filings Instituting Proceedings

Docket Numbers: RP18-507-000.

Applicants: Columbia Gas Transmission, LLC.

Description: § 4(d) Rate Filing: EPCA 2018 to be effective 4/1/2018.

Filed Date: 3/1/18.

Accession Number: 20180301-5041.

Comments Due: 5 p.m. ET 3/13/18.

Docket Numbers: RP18-508-000.

Applicants: Columbia Gas Transmission, LLC.

Description: § 4(d) Rate Filing: TCRA 2018 to be effective 4/1/2018.

Filed Date: 3/1/18.

Accession Number: 20180301-5054.

Comments Due: 5 p.m. ET 3/13/18.

Docket Numbers: RP18-509-000.

Applicants: Columbia Gas Transmission, LLC.

Description: § 4(d) Rate Filing: RAM 2018 to be effective 4/1/2018.

Filed Date: 3/1/18.

Accession Number: 20180301-5062.

Comments Due: 5 p.m. ET 3/13/18.

Docket Numbers: RP18-510-000.

Applicants: KPC Pipeline, LLC.

Description: § 4(d) Rate Filing: Fuel Reimbursement Adjustment to be effective 4/1/2018.

Filed Date: 3/1/18.

Accession Number: 20180301-5063.

Comments Due: 5 p.m. ET 3/13/18.

Docket Numbers: RP18-511-000.

Applicants: WBI Energy Transmission, Inc.

Description: § 4(d) Rate Filing: 2018 Annual Fuel & Electric Power Reimbursement Adjustment to be effective 4/1/2018.

Filed Date: 3/1/18.

Accession Number: 20180301-5064.

Comments Due: 5 p.m. ET 3/13/18.

Docket Numbers: RP18-512-000.

Applicants: Columbia Gulf Transmission, LLC.

Description: § 4(d) Rate Filing: TRA 2018 to be effective 4/1/2018.

Filed Date: 3/1/18.

Accession Number: 20180301-5065.

Comments Due: 5 p.m. ET 3/13/18.

Docket Numbers: RP18-513-000.

Applicants: WBI Energy Transmission, Inc.

Description: § 4(d) Rate Filing: 2018 Negotiated Rate SA FT-1422 to be effective 4/1/2018.

Filed Date: 3/1/18.

Accession Number: 20180301-5066.

Comments Due: 5 p.m. ET 3/13/18.

Docket Numbers: RP18-515-000.

Applicants: Crossroads Pipeline Company.

Description: § 4(d) Rate Filing: TRA 2018 to be effective 4/1/2018.

Filed Date: 3/1/18.

Accession Number: 20180301-5071.

Comments Due: 5 p.m. ET 3/13/18.

Docket Numbers: RP18-516-000.

Applicants: Millennium Pipeline Company, LLC.

Description: § 4(d) Rate Filing: RAM 2018 to be effective 4/1/2018.

Filed Date: 3/1/18.

Accession Number: 20180301-5072.

Comments Due: 5 p.m. ET 3/13/18.

Docket Numbers: RP18-517-000.

Applicants: Central Kentucky Transmission Company.

Description: § 4(d) Rate Filing: RAM 2018 to be effective 4/1/2018.

Filed Date: 3/1/18.

Accession Number: 20180301-5078.

Comments Due: 5 p.m. ET 3/13/18.

Docket Numbers: RP18-518-000.

Applicants: Ruby Pipeline, L.L.C.

Description: § 4(d) Rate Filing: Update Filing—FLU and EPC to be effective 4/1/2018.

Filed Date: 3/1/18.

Accession Number: 20180301-5079.

Comments Due: 5 p.m. ET 3/13/18.

Docket Numbers: RP18-519-000.

Applicants: TransColorado Gas Transmission Company L.

Description: § 4(d) Rate Filing: Annual Reimbursement Percentage Update and Annual Report Filing to be effective 4/1/2018.

Filed Date: 3/1/18.

Accession Number: 20180301-5090.

Comments Due: 5 p.m. ET 3/13/18.

Docket Numbers: RP18-520-000.

Applicants: Viking Gas Transmission Company.

Description: § 4(d) Rate Filing: Semi-Annual FLRP—Spring 2018 to be effective 4/1/2018.

Filed Date: 3/1/18.

Accession Number: 20180301-5091.

Comments Due: 5 p.m. ET 3/13/18.

Docket Numbers: RP18-521-000.

Applicants: Gulf Crossing Pipeline Company LLC.

Description: § 4(d) Rate Filing: Cap Rel Neg Rate Agmt (Newfield 18 to SW Energy 1950) to be effective 3/1/2018.

Filed Date: 3/1/18.

Accession Number: 20180301-5100.

Comments Due: 5 p.m. ET 3/13/18.

Docket Numbers: RP18-522-000.

Applicants: Leaf River Energy Center LLC.

Description: § 4(d) Rate Filing: Non-Conforming Service Agreement and Related Tariff Changes to be effective 4/1/2018.

Filed Date: 3/1/18.

Accession Number: 20180301-5101.

Comments Due: 5 p.m. ET 3/13/18.

Docket Numbers: RP18-523-000.

Applicants: Gulf South Pipeline Company, LP.

Description: § 4(d) Rate Filing: Cap Rel Neg Rate Agmt (Petrohawk 41455 to Texla 49140) to be effective 3/1/2018.

Filed Date: 3/1/18.

Accession Number: 20180301-5102.

Comments Due: 5 p.m. ET 3/13/18.

Docket Numbers: RP18-524-000.

Applicants: Guardian Pipeline, L.L.C.

Description: § 4(d) Rate Filing: EPCR Semi-Annual Adjustment—Spring 2018 to be effective 4/1/2018.

Filed Date: 3/1/18.

Accession Number: 20180301-5106.

Comments Due: 5 p.m. ET 3/13/18.

Docket Numbers: RP18-525-000.

Applicants: Kern River Gas Transmission Company.

Description: § 4(d) Rate Filing: 2018 Daggett Electric Surcharge to be effective 4/1/2018.

Filed Date: 3/1/18.

Accession Number: 20180301-5107.

Comments Due: 5 p.m. ET 3/13/18.

Docket Numbers: RP18-526-000.

Applicants: Alliance Pipeline L.P.

Description: § 4(d) Rate Filing: Settlement Rates and Tracker to be effective 4/1/2018.

Filed Date: 3/1/18.

Accession Number: 20180301-5149.

Comments Due: 5 p.m. ET 3/13/18.

Docket Numbers: RP18-527-000.

Applicants: Millennium Pipeline Company, LLC.

Description: Operational Transactions Report of Millennium Pipeline Company, LLC.

Filed Date: 3/1/18.

Accession Number: 20180301-5169.

Comments Due: 5 p.m. ET 3/13/18.

Docket Numbers: RP18-528-000.

Applicants: Cimarron River Pipeline, LLC.

Description: § 4(d) Rate Filing: Fuel Tracker 2018—Summer Season Rates to be effective 4/1/2018.

Filed Date: 3/1/18.

Accession Number: 20180301-5179.

Comments Due: 5 p.m. ET 3/13/18.

Docket Numbers: RP18-529-000.

Applicants: Cheniere Creole Trail Pipeline, L.P.

Description: Transportation Retainage Adjustment Informational Filing of Cheniere Creole Trail Pipeline, L.P.

Filed Date: 3/1/18.

Accession Number: 20180301-5181.

Comments Due: 5 p.m. ET 3/13/18.

Docket Numbers: RP18-530-000.

Applicants: Chesapeake Energy Marketing, L.L.C., BCE-MACH LLC.

Description: Joint Petition of Chesapeake Energy Marketing, L.L.C., et al. for Limited Waiver and Request For Expedited Action.

Filed Date: 3/1/18.

Accession Number: 20180301-5183.

Comments Due: 5 p.m. ET 3/8/18.

Docket Numbers: RP18-531-000.

Applicants: Tennessee Gas Pipeline Company, L.L.C.

Description: § 4(d) Rate Filing: Fuel Tracker 2018 to be effective 4/1/2018.

Filed Date: 3/1/18.

Accession Number: 20180301-5186.

Comments Due: 5 p.m. ET 3/13/18.

Docket Numbers: RP18-532-000.

Applicants: Enable Gas Transmission, LLC.

Description: § 4(d) Rate Filing: Negotiated Rate Filng—March, 2018—Shell Newfield to be effective 3/1/2018.

Filed Date: 3/1/18.

Accession Number: 20180301-5199.

Comments Due: 5 p.m. ET 3/13/18.

Docket Numbers: RP18-533-000.

Applicants: Tallgrass Interstate Gas Transmission, L.

Description: § 4(d) Rate Filing: FL&U and EPCT Periodic Rate Adjustment to be effective 4/1/2018.

Filed Date: 3/1/18.

Accession Number: 20180301-5241.

Comments Due: 5 p.m. ET 3/13/18.

Docket Numbers: RP18-534-000.

Applicants: Texas Eastern Transmission, LP.

Description: § 4(d) Rate Filing: Negotiated Rates—Rice Energy Release to Wells Fargo to be effective 3/1/2018.

Filed Date: 3/1/18.

Accession Number: 20180301-5242.

Comments Due: 5 p.m. ET 3/13/18.

Docket Numbers: RP18-535-000.

Applicants: El Paso Natural Gas Company, L.L.C.

Description: § 4(d) Rate Filing: Letter Agreement Filing (SWG March 18) to be effective 4/1/2018.

Filed Date: 3/1/18

Accession Number: 20180301-5243.

Comments Due: 5 p.m. ET 3/13/18.

Docket Numbers: RP18-536-000.

Applicants: American Midstream (Midla), LLC.

Description: § 4(d) Rate Filing: Annual Fuel, Lost and Unaccounted-for Gas Percentage Filing to be effective 4/1/2018.

Filed Date: 3/1/18.

Accession Number: 20180301-5246.

Comments Due: 5 p.m. ET 3/13/18.

Docket Numbers: RP18-537-000.

Applicants: Algonquin Gas Transmission, LLC.

Description: § 4(d) Rate Filing: AGT FRQ Partial Settlement Filing—Docket Nos. RP18-75-000, 001 to be effective 4/1/2018.

Filed Date: 3/1/18.

Accession Number: 20180301-5261.

Comments Due: 5 p.m. ET 3/13/18.

Docket Numbers: RP18-538-000.

Applicants: Dauphin Island Gathering Partners.

Description: § 4(d) Rate Filing: Storm Surcharge 2018 to be effective 4/1/2018.

Filed Date: 3/1/18.

Accession Number: 20180301-5266.

Comments Due: 5 p.m. ET 3/13/18.

Docket Numbers: RP18-539-000.

Applicants: UGI Sunbury, LLC.

Description: § 4(d) Rate Filing: Revise Imbalance Management Section to be effective 4/1/2018.

Filed Date: 3/1/18.

Accession Number: 20180301-5273.

Comments Due: 5 p.m. ET 3/13/18.

Docket Numbers: RP18-540-000.

Applicants: Transcontinental Gas Pipe Line Company.

Description: § 4(d) Rate Filing: Transco 2018 Annual Fuel Tracker to be effective 4/1/2018.

Filed Date: 3/1/18.

Accession Number: 20180301-5276.

Comments Due: 5 p.m. ET 3/13/18.

Docket Numbers: RP18-541-000.

Applicants: Transcontinental Gas Pipe Line Company.

Description: § 4(d) Rate Filing: Annual Electric Power Tracker Filing Effective April 1, 2018 to be effective 4/1/2018.

Filed Date: 3/1/18.

Accession Number: 20180301-5286.

Comments Due: 5 p.m. ET 3/13/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2018.
Nathaniel J. Davis, Sr.,
Deputy Secretary.

[FR Doc. 2018-04739 Filed 3-8-18; 8:45 am]

BILLING CODE 6717-01-P